DEPARTMENT OF HOMELAND SECURITY

Coast Guard

33 CFR Part 117

[CGD01-05-007]

Drawbridge Operation Regulations: Fore River, ME

AGENCY: Coast Guard, DHS.

ACTION: Notice of temporary deviation from regulations.

SUMMARY: The Commander, First Coast Guard District, has issued a temporary deviation from the drawbridge operation regulations for the Casco Bay Bridge, mile 1.5, across the Fore River between Portland and South Portland, Maine. Under this temporary deviation, from February 28, 2005 through March 4, 2005, bridge openings between the hours of 6 a.m. and 6 p.m. will require a 24-hour advance notice. The bridge will open on signal at all other times. This temporary deviation is necessary to facilitate mechanical repairs at the bridge.

DATES: This deviation is effective from February 28, 2005 through March 4, 2005.

FOR FURTHER INFORMATION CONTACT: John McDonald, Project Officer, First Coast Guard District, at (617) 223-8364.

SUPPLEMENTARY INFORMATION: The Casco Bay Bridge has a vertical clearance in the closed position of 55 feet at mean high water and 64 feet at mean low water. The existing drawbridge operation regulations are listed at 33 CFR 117.5.

The bridge owner, Maine Department of Transportation, requested a temporary deviation from the drawbridge operation regulations to facilitate scheduled mechanical maintenance, span lock repairs, at the bridge.

Under this temporary deviation from February 28, 2005 through March 4, 2005, bridge openings between the hours of 6 a.m. and 6 p.m. will require a 24-hour advance notice. The bridge will open on signal at all other times.

This deviation from the operating regulations is authorized under 33 CFR 117.35, and will be performed with all due speed in order to return the bridge to normal operation as soon as possible.

Dated: January 31, 2005.
Gary Kassof,
Bridge Program Manager, First Coast Guard District.

[FR Doc. 05-2870 Filed 2-14-05; 8:45 am]

BILLING CODE 4910-15-P